DEPARTMENT OF ENERGY

Federal Energy Regulatory Commission

[Docket No. RP99-327-002]

Texas Gas Transmission Corporation; Notice of Proposed Changes in FERC Gas Tariff

July 7, 2000.

Take notice that on June 30, 2000, Texas Gas Transmission Corporation (Texas Gas) tendered for filing to become part of its FERC Gas Tariff, First Revised Volume No. 1, the following revised tariff sheets, with an effective date of July 1, 2000:

1 Rev Thirty-third Revised Sheet No. 10

1 Rev Sixteenth Revised Sheet No. 10A

First Revised Sub Original Sheet No. 10A.01

First Revised Sub Original Sheet No. 10A.02

1 Rev Twenty-first Revised Sheet No. 11A

1 Rev Seventeenth Revised Sheet No. 11B

1 Rev Thirty-first Revised Sheet No. 12

Texas Gas states that the filing reflects the expiration of the Order No. 528 Commodity Surcharge (Docket No. RP99-327) originally filed on June 1, 1999, and approved by the Commission in its Order dated June 30, 1999. Due to the scheduled expiration of the commodity surcharge and the resulting decrease in applicable rates, Texas Gas requested an effective date for the filed tariff sheets of July 1, 2000.

Texas Gas states that copies of the revised tariff sheets are being mailed to Texas Gas's jurisdictional customers, interested state commissions, and all parties appearing on the official service list.

Any person desiring to protest this filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-17738 Filed 7-12-00; 8:45 am]

BILLING CODE 6717-01-M